DEPARTMENT OF EDUCATION

[Docket No. ED-2013-ICCD-0114]

Agency Information Collection Activities; Submission to the Office of Management and Budget for Review and Approval; Comment Request; State Educational Agency Local Educational Agency, and School Data Collection and Reporting under ESEA, Title I, Part A

AGENCY: Office of Elementary and Secondary Education, Department of Education (ED).

ACTION: Notice.

SUMMARY: In accordance with the Paperwork Reduction Act of 1995 (44 U.S.C. chapter 3501 et seq.), ED is proposing a revision of an existing collection of information.

DATES: Interested persons are invited to submit comments on or before January 27, 2014.

ADDRESSES: Comments submitted in response to this notice should be submitted electronically through the Federal eRulemaking Portal at http://www.regulations.gov by selecting Docket ID number ED-2013-ICCD-0114 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW, LBJ, Room 2E115, Washington, DC 20202-4537.

FOR FURTHER INFORMATION CONTACT: For questions related to collection activities or burden, please call Tomakie Washington, 202-401-1097 or electronically mail ICDocketMgr@ed.gov. Please do not send comments here. We will ONLY accept comments in this mailbox when the regulations.gov site is not available to the public for any reason.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: State Educational Agency Local Educational Agency, and School Data Collection and Reporting under ESEA, Title I, Part A.

OMB Control Number: 1810-0581.

Type of Review: Revision of an existing collection of information.

Respondents/Affected Public: State, Local, or Tribal Governments.

Total Estimated Number of Annual Responses: 53,198.

Total Estimated Number of Annual Burden Hours: 4,702,675.

Abstract: Title I, Part A (Title I) of the Elementary and Secondary Education Act of 1965 (ESEA), as amended, and its regulations contain several existing provisions that require State educational agencies (SEAs), local educational agencies (LEAs), and schools to collect and disseminate information. The Paperwork Reduction Act (PRA) covers these activities, which are currently approved by OMB under control number 1810-0581 through March 2014. In addition, in 2011, ED invited each SEA to request flexibility on behalf of itself, its LEAs, and schools, in order to better focus on improving student academic achievement and increasing the quality of instruction (ESEA flexibility). The opportunity for SEAs to request ESEA flexibility also included activities covered by the PRA. Those information collection activities consisted of the information an SEA must develop and submit to ED to request this flexibility, information that an SEA provided in an Accountability Addendum, and the information an SEA that receives ESEA flexibility must annually report to ED. Approvals of ESEA flexibility requests have occurred in several iterations: Window 1, for which SEAs submitted requests in November 2011; Window 2, for which SEAs submitted requests in February 2012; Window 3, for which SEAs submitted requests in September 2012; and Window 4, for which SEAs submitted requests in spring 2013. Generally, ED approved the requests of SEAs that requested ESEA flexibility in Windows 1 and 2 through the end of the 20132014 school year. ED is now inviting the 35 Window 1 and Window 2 SEAs to request a one-year extension of the waivers granted through ESEA flexibility, which would generally last through the 20142015 school year.

Dated: December 19, 2013.
Tomakie Washington,
Acting Director Information Collection Clearance Division, Privacy, Information and Records Management Services, Office of Management.

[FR Doc. 2013-30755 Filed 12-24-13; 8:45 am]

BILLING CODE 4000-01-P